DEPARTMENT OF HOUSING AND URBAN DEVELOPMENT

[Docket Number FR-5600-FA-36]

Announcement of Funding Awards for the Rural Capacity Building for Community Development and Affordable Housing Program Fiscal Year 2012

AGENCY: Office of the Assistant Secretary for Community Planning and Development, HUD.

ACTION: Announcement of funding awards.

SUMMARY: In accordance with section 102(a)(4)(C) of the Department of Housing and Urban Development Reform Act of 1989, this announcement notifies the public of funding decisions made by the Department in a competition for funding under the 2012 Notice of Funding Availability (NOFA) for the Rural Capacity Building for Community Development and Affordable Housing Program. This announcement contains the names of the award recipients and the amounts of the awards made available by HUD.

FOR FURTHER INFORMATION CONTACT: Tasleem Albaari, Program Analyst, Office of Community Planning and Development, Department of Housing and Urban Development, 451 Seventh Street SW., Room 7228, Washington, DC 20410, telephone number 202-402-7346. To provide service for persons who are hearing-or-speech-impaired, this number may be reached via TTY by dialing the Federal Relay Service on 800-877-TTY, 800-877-8339, or 202-402-7346. Telephone number, other than “800” TTY numbers are not toll free.

SUPPLEMENTARY INFORMATION: HUD's Rural Capacity Building for Community Development and Affordable Housing Program is authorized by the Consolidated and Continuing Appropriations Act of 2012 (Pub. L. 112-55). The Rural Capacity Building Program provides grants to national organizations with expertise in rural housing and community development to enhance the capacity and ability of local governments, Indian tribes, housing development organizations, rural community development corporations (CDCs) and community housing development organizations (CHDOs) to carry out community development and affordable housing activities that benefit low- and moderate-income families and persons in rural areas. Rural Capacity Building Program funds can be used to provide the following activities:

• Technical assistance, training, support, and advice to develop the business and administrative capabilities of rural community-based housing development organizations, CDCs, CHDOs, local governments, and Indian tribes;

• Loans, grants, or other financial assistance to rural community-based housing development organizations, CDCs, CHDOs, and local governments in addition to Indian tribes to carry out community development and affordable housing activities for low- and moderate-income families and persons, including the acquisition, construction, or rehabilitation of housing for low-income families and persons, and community and economic development activities that create jobs for low-income persons; and

• Such other activities as may be determined by the grantees in consultation with the Secretary or his or her designee.

The Fiscal Year 2012 competition was announced on December 20, 2012 on http://portal.hud.gov/hudportal/HUD?src=/program_offices/administration/grants/fundsavail/nofa12/ruralcapbldg. The NOFA provided $5 million for Rural Capacity Building grants For the Fiscal Year 2012 competition, HUD awarded four competitive Rural Capacity Building grants totaling $5 million.

In accordance with section 102(a)(4)(C) of the Department of Housing and Urban Development Reform Act of 1989 (103 Stat. 1987, 42 U.S.C. 3545), the Department is publishing the grantees and the amounts of the awards in Appendix A to this document.

Dated: June 17, 2013.
Frances Bush,
Deputy Assistant Secretary for Operations Office of Community Planning and Development.

Appendix A

Fiscal Year 2012 Funding Awards for Rural Capacity Building for Community Development and Affordable Housing Program Grants
No. | State | Award recipient | Award
1 | DC | Housing Assistance Council | $3,042,188
2 | AL | Collaborative Solutions, Inc | 782,465
3 | MN | Minnesota Housing Partnership | 675,347
4 | CA | Rural Community Assistance Corporation | 500,000
Total |  |  | 5,000,000

[FR Doc. 2013-15307 Filed 6-25-13; 8:45 am]

BILLING CODE 4210-67-P